FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 17, 2006.

A. Federal Reserve Bank of Kansas City (Donna J. Ward, Assistant Vice President) 925 Grand Avenue, Kansas City, Missouri 64198-0001:

1. Daniel T Sims and Nicolette B. Sims, Leawood, Kansas, and Daniel T. Sims, co-trustee of the Will Ben Sims Marital Trust and the Patricia L. Sims Family Trust; Stephen L. Riffel and Mary Susan Riffel, Moberly, Missouri; and Mary Susan Riffel as co-trustee of the Patricia L. Sims Family Trust; Will Ben Sims Marital Trust, Moberly Missouri; Patricia L. Sims Family Trust, Moberly, Missouri; to acquire control of Chariton County Bancshares, Inc., Moberly, Missouri, and thereby acquire control of County Bank, Brunswick, Missouri.

Board of Governors of the Federal Reserve System, June 27, 2006.
Robert deV. Frierson,
Deputy Secretary of the Board.

[FR Doc. E6-10278 Filed 6-29-06; 8:45 am]

BILLING CODE 6210-01-S